COMMISSION ON CIVIL RIGHTS

Agenda and Notice of Public Meeting of the Connecticut Advisory Committee

AGENCY: Commission on Civil Rights.

ACTION: Announcement of meeting.

SUMMARY: Notice is hereby given, pursuant to the provisions of the rules and regulations of the U.S. Commission on Civil Rights (Commission), and the Federal Advisory Committee Act (FACA), that a roundtable meeting of the Connecticut Advisory Committee to the Commission will convene at 10:00 a.m. (EDT) on Thursday, August 9, 2018, in the Legislative Office Building of the Capitol Building, 210 Capitol Avenue, Hartford, CT 06106. The purpose of the roundtable will be to hear from experts about varied civil rights topics.

DATES: Thursday, August 9, 2018 (EDT) Time: 10:00 a.m.—Roundtable Meeting and Public Session.

ADDRESSES: Legislative Office Building, Room 2A, 300 Capitol Avenue, Hartford, CT 06106.

FOR FURTHER INFORMATION CONTACT: Barbara Delaviez at ero@usccr.gov, or 202-376-7533.

SUPPLEMENTARY INFORMATION: The purpose of the roundtable meeting is to examine topical civil rights issues in Connecticut. The Committee will hear from elected officials, advocates and experts. The public is invited to the meeting and encouraged to address the committee following the presentations.

If other persons who plan to attend the meeting require other accommodations, please contact Evelyn Bohor at ebohor@usccr.gov at the Eastern Regional Office at least ten (10) working days before the scheduled date of the meeting.

Time will be set aside at the end of the briefing so that members of the public may address the Committee after the formal presentations have been completed. Persons interested in the issue are also invited to submit written comments; the comments must be received in the regional office by Monday, September 10, 2018. Written comments may be mailed to the Eastern Regional Office, U.S. Commission on Civil Rights, 1331 Pennsylvania Avenue, Suite 1150, Washington, DC 20425, faxed to (202) 376-7548, or emailed to Evelyn Bohor at ebohor@usccr.gov. Persons who desire additional information may contact the Eastern Regional Office at (202) 376-7533.

Records and documents discussed during the meeting will be available for public viewing as they become available at http://facadatabase.gov/committee/meetings.aspx?cid=239 and clicking on the “Meeting Details” and “Documents” links. Records generated from this meeting may also be inspected and reproduced at the Eastern Regional Office, as they become available, both before and after the meeting. Persons interested in the work of this advisory committee are advised to go to the Commission's website, www.usccr.gov, or to contact the Eastern Regional Office at the above phone number, email or street address.

Agenda

Welcome and Introductions

David J. McGuire, Chair, Connecticut Advisory Committee

Opening Statement

David J. McGuire, Chair, Connecticut Advisory Committee

Roundtable Meeting

Invited Experts to Present Topical Civil Rights Issues

Open Comment

Dated: July 10, 2018.
David Mussatt,
Supervisory Chief, Regional Programs Unit.

[FR Doc. 2018-15030 Filed 7-12-18; 8:45 am]

BILLING CODE 6335-01-P